DEPARTMENT OF HEALTH AND HUMAN SERVICES

Office of the Secretary; Findings of Scientific Misconduct

AGENCY: Office of the Secretary, HHS.

ACTION: Notice.

SUMMARY: Notice is hereby given that the Office of Research Integrity (ORI) and the Assistant Secretary for Health have taken final action in the following case:

Tatsumi Arichi, Ph.D., National Cancer Institute, National Institutes of Health: Based on the report of an investigation conducted by the National Institutes of Health (NIH), Dr. Arichi's admissions, and additional analysis conducted by ORI in its oversight review, the U.S. Public Health Service (PHS) found that Tatsumi Arichi, Ph.D., former Visiting Fellow in the intramural program of the National Cancer Institute (NCI), NIH, engaged in scientific misconduct by falsifying and fabricating published data.

Specifically, PHS found that Dr. Arichi falsified data that purported to show potent long lasting immunization of mice with plasmid DNA leading to protection from challenge with vaccinia virus expressing the hepatitis C core antigen as published in Figures 4, 5, and 6 in PNAS 97:297-302, 2000. This paper was retracted in PNAS 98:5943, 2001. The research involved use of a potential vaccine against hepatitis C, a virus that infects at least three million Americans, many of whom suffer serious health consequences such as cirrhosis and liver cancer.

Dr. Arichi has entered into a Voluntary Exclusion Agreement in which he has voluntarily agreed for a period of three (3) years, beginning on June 4, 2002:

(1) To exclude himself from any contracting or subcontracting with any agency of the United States Government and from eligibility for, or involvement in, nonprocurement transactions (e.g., grants and cooperative agreements) of the United States Government as defined in 45 C.F.R. Part 76 (Debarment Regulations); and

(2) To exclude himself from serving in any advisory capacity to PHS, including but not limited to service on any PHS advisory committee, board, and/or peer review committee, or as a consultant.

FOR FURTHER INFORMATION CONTACT: Director, Division of Investigative Oversight, Office of Research Integrity, 5515 Security Lane, Suite 700, Rockville, MD 20852, (301) 443-5330.

Chris B. Pascal,
Director, Office of Research Integrity.

[FR Doc. 02-15160 Filed 6-14-02; 8:45 am]

BILLING CODE 4150-31-P